Proclamation 8449 of October 30, 2009

National Native American Heritage Month, 2009

By the President of the United States of America

A Proclamation

The indigenous peoples of North America—the First Americans—have woven rich and diverse threads into the tapestry of our Nation’s heritage. Throughout their long history on this great land, they have faced moments of profound triumph and tragedy alike. During National Native American Heritage Month, we recognize their many accomplishments, contributions, and sacrifices, and we pay tribute to their participation in all aspects of American society.

This month, we celebrate the ancestry and time-honored traditions of American Indians and Alaska Natives in North America. They have guided our land stewardship policies, added immeasurably to our cultural heritage, and demonstrated courage in the face of adversity. From the American Revolution to combat missions in Iraq and Afghanistan, they have fought valiantly in defense of our Nation as dedicated servicemen and women. Their native languages have also played a pivotal role on the battlefield. During World Wars I and II, Native American code talkers developed unbreakable codes to communicate military messages that saved countless lives. Native Americans have distinguished themselves as inventors, entrepreneurs, spiritual leaders, and scholars. Our debt to our First Americans is immense, as is our responsibility to ensure their fair, equal treatment and honor the commitments we made to their forebears.

The Native American community today faces huge challenges that have been ignored by our Government for too long. To help address this disparity, the American Recovery and Reinvestment Act allocates more than $3 billion to help these communities deal with their most pressing needs. In the Fiscal Year 2010 budget, my Administration has proposed over $17 billion for programs carried out by the Bureau of Indian Affairs, Indian Health Service, and other Federal agencies that have a critical role to play in improving the lives of Native Americans. These programs will increase educational opportunities, address the scourge of alcohol abuse and domestic violence, promote economic development, and provide access to comprehensive, accessible, and affordable health care. While funding increases do not make up for past deficiencies, they do reflect our determination to honor tribal sovereignty and ensure continued progress on reservations across America.

As we seek to build on and strengthen our nation-to-nation relationship, my Administration is committed to ensuring tribal communities have a meaningful voice in our national policy debates as we confront the challenges facing all Americans. We will continue this constructive dialogue at the White House Tribal Nations Conference held in Washington, D.C., this month. Native American voices have echoed through the mountains, valleys, and plains of our country for thousands of years, and it is now our time to listen.

NOW, THEREFORE, I, BARACK OBAMA, President of the United States of America, by virtue of the authority vested in me by the Constitution and the laws of the United States, do hereby proclaim November 2009 as National Native American Heritage Month. I call upon all Americans to commemorate this month with appropriate programs and activities, and to celebrate November 27, 2009, as Native American Heritage Day.

IN WITNESS WHEREOF, I have hereunto set my hand this thirtieth day of October, in the year of our Lord two thousand nine, and of the Independence of the United States of America the two hundred and thirty-fourth.

[FR Doc. E9-26765

Filed 11-3-09; 11:15 am]

Billing code 3195-W9-P